DEPARTMENT OF AGRICULTURE

Forest Service

Information Collection: Special Uses

AGENCY: Forest Service, Agriculture (USDA).

ACTION: Notice of approved revisions to information collection requirement.

OMB has approved the Forest Service's proposed revisions to information collection requirement (ICR) 0596-0082 under the Paperwork Reduction Act, 44 U.S.C. 3501 et seq. The proposed revisions to ICR 0596-0082 were published in the Federal Register for public comment on September 15, 2020 (85 FR 57181), as required by the Paperwork Reduction Act and section 14(a) of the Forest and Rangeland Renewable Resources Planning Act of 1974, 16 U.S.C. 1612(a). The Forest Service's responses to comments received on the proposed revisions to ICR 0596-0082 are posted at https://www.fs.usda.gov/managing-land/lands-realty-management/forms.

Dated: February 15, 2023.
Kevin Knesek,
Acting Deputy Director, Lands and Realty Management and Minerals & Geology, National Forest System.

[FR Doc. 2023-03600 Filed 2-21-23; 8:45 am]

BILLING CODE 3411-15-P